DEPARTMENT OF COMMERCE

Patent and Trademark Office

Agency Information Collection Activities; Submission to the Office of Management and Budget for Review and Approval; Comment Request; Requirements for Patent Applications Containing Nucleotide Sequence and/or Amino Acid Sequence Disclosures

AGENCY: United States Patent and Trademark Office, Department of Commerce.

ACTION: Notice of information collection; request for comments.

SUMMARY: The United States Patent and Trademark Office (USPTO) will submit the following information collection request to the Office of Management and Budget (OMB) for review and clearance in accordance with the Paperwork Reduction Act of 1995, on or after the date of publication of this notice. The USPTO invites comments on this information collection renewal of 0651-0024 (Requirements for Patent Applications Containing Nucleotide Sequence and/or Amino Acid Sequence Disclosures), which helps the USPTO assess the impact of its information collection requirements and minimize the public's reporting burden. Public comments were previously requested via the Federal Register on June 26, 2025, during a 60-day comment period (90 FR 27284). This notice allows for an additional 30 days for public comment.

DATES: To ensure consideration, you must submit comments regarding this information collection on or before November 24, 2025.

ADDRESSES: Written comments and recommendations for this information collection should be submitted within 30 days of the publication of this notice at the following website, www.reginfo.gov/public/do/PRAMain. Find this particular information collection by selecting “Currently under 30-day Review—Open for Public Comments” or by using the search function and entering either the title of the information collection or the OMB Control Number, 0651-0024. Do not submit Confidential Business Information or otherwise sensitive or protected information.

FOR FURTHER INFORMATION CONTACT:

• This information collection request may be viewed at www.reginfo.gov/public/do/PRAMain. Follow the instructions to view Department of Commerce, USPTO information collections currently under review by OMB.

• Email: InformationCollection@uspto.gov. Include “0651-0024 information request” in the subject line of the message.

• Mail: Justin Isaac, Office of the Chief Administrative Officer, United States Patent and Trademark Office, P.O. Box 1450, Alexandria, VA 22313-1450.

• Telephone: Raul Tamayo, Senior Legal Advisor, (571)-272-7728.

SUPPLEMENTARY INFORMATION:

Agency: United States Patent and Trademark Office, Department of Commerce.

Title: Requirements for Patent Applications Containing Nucleotide Sequence and/or Amino Acid Sequence Disclosures.

OMB Control Number: 0651-0024.

Needs and Uses: Patent applications that contain nucleotide and/or amino acid sequence disclosures falling within the definitions of 37 CFR 1.831 (for applications filed on or after July 1, 2022) or 37 CFR 1.821(a) (for applications filed on or before June 30, 2022) must include, as a separate part of the application disclosure, a copy of the sequence listing in accordance with the requirements in 37 CFR 1.831-1.835 or 37 CFR 1.821-1.825, respectively. Applicants may submit sequence listings for both U.S. and international patent applications. For more information concerning the submission of sequence listings in international applications, see the Patent Cooperation Treaty (PCT) Rules 5.2 and 13ter, Annex C of the PCT Administrative Instructions, and section 1848 of the Manual of Patent Examining Procedure (MPEP) (9th ed., Rev. 01.2024, November 2024).

The USPTO uses the sequence listings during the examination process to determine the patentability of the invention claimed in the application. The USPTO also uses the sequence listings for pre-grant publication of applications and issued patents. Applicants use sequence listings when preparing both national and international patent applications that disclose nucleotide and/or amino acid sequences to provide a written description of the invention and to distinguish the claimed subject matter from the prior art.

This information covers only the submission of sequence listing information itself. Information pertaining to the initial filing of a U.S. patent application is collected under OMB Control Number 0651-0032, and information pertaining to the initial filing of international applications is collected under OMB Control Number 0651-0021.

For sequence listings filed as 37 CFR 1.825 amendments in applications having a filing date of on or before June 30, 2022, this information collection also accounts for the submission of a new or substitute computer readable form (CRF) copy of the sequence listing under 37 CFR 1.821(e) and 1.824, with the amendment incorporated therein, if necessary, under 37 CFR 1.825(a)(5)(ii) or (b)(6)(ii).

Forms: None.

Type of Review: Extension and revision of a currently approved information collection.

Affected Public: Public sector.

Respondent's Obligation: Required to obtain or retain benefits.

Frequency: On occasion.

Estimated Number of Annual Respondents: 30,000 respondents.

Estimated Number of Annual Responses: 30,000 responses.

Estimated Time per Response: The USPTO estimates that the responses in this information collection will take the public approximately 6 hours to complete. This includes the time to gather the necessary information, create the document, and submit the completed item(s) to the USPTO.

Estimated Total Annual Respondent Burden Hours: 180,000 hours.

Estimated Total Annual Respondent Non-hourly Cost Burden: $336,973.

Justin Isaac,
Information Collections Officer, Office of the Chief Administrative Officer, United States Patent and Trademark Office.

[FR Doc. 2025-19650 Filed 10-23-25; 8:45 am]

BILLING CODE 3510-16-P